DEPARTMENT OF ENERGY

10 CFR Part 431

[Docket Number EERE-2010-BT-STD-0048]

RIN 1904-AC04

Energy Conservation Program: Energy Conservation Standards for Distribution Transformers; Correction

AGENCY: Office of Energy Efficiency and Renewable Energy, Department of Energy.

ACTION: Notice of proposed rulemaking and public meeting; correction.

SUMMARY: The U.S. Department of Energy (DOE) published a notice of proposed rulemaking on February 10, 2012, which proposed to amend DOE regulations regarding energy conservation standards for distribution transformers. It was recently discovered that values in certain tables of the proposed rule are inaccurate or absent. This notice corrects these inaccuracies as described.

DATES: DOE will accept comments, data and information regarding this correction before and after the February 23, 2012, public meeting, but no later than April 10, 2012.

FOR FURTHER INFORMATION CONTACT: James Raba, U.S. Department of Energy, Office of Energy Efficiency and Renewable Energy, Building Technologies Program, EE-2J, 1000 Independence Avenue SW., Washington, DC 20585-0121. Telephone: (202) 586-8654. Email: Jim.Raba@ee.doe.gov.

Ami Grace-Tardy, U.S. Department of Energy, Office of the General Counsel, GC-71, 1000 Independence Avenue SW., Washington, DC 20585-0121. Telephone: (202) 586-5709. Email: Ami.Grace-Tardy@hq.doe.gov.

SUPPLEMENTARY INFORMATION:

Background

Title III, Part B of the Energy Policy and Conservation Act of 1975 (EPCA or the Act), Public Law 94-163 (42 U.S.C. 6291-6309, as codified), established the Energy Conservation Program for “Consumer Products Other Than Automobiles.” Part C of Title III of EPCA (42 U.S.C. 6311-6317) established a similar program for “Certain Industrial Equipment,” including distribution transformers. The Energy Policy Act of 1992 (EPACT 1992), Public Law 102-486, amended EPCA and directed DOE to prescribe energy conservation standards for distribution transformers. (42 U.S.C. 6317(a)) On October 12, 2007, DOE published a final rule that established energy conservation standards for liquid-immersed distribution transformers and medium-voltage, dry-type distribution transformers (72 FR 58190). The Energy Policy Act of 2005 (EPACT 2005), Public Law 109-25, amended EPCA to establish energy conservation standards for low-voltage, dry-type distribution transformers. (42 U.S.C. 6295(y)) On February 10, 2012, DOE published a proposed rule with amended energy conservation standards for liquid-immersed, medium-voltage dry-type, and low-voltage, dry-type distribution transformers (77 FR 7282).

Need for Correction

As published, values in certain tables of the proposed rule are inaccurate or absent. DOE solicits public comment on the changes contained in this document as part of the February 10 NOPR.

Corrections

In proposed rule FR Doc. 2012-2642 appearing on page 7282 in the issue of Friday, February 10, 2012, the following corrections should be made:

1. On page 7285, Table I.5 is corrected to read as follows:

Table I.5—Proposed Electrical Efficiencies for All Liquid-Immersed Distribution Transformer Equipment Classes (Compliance Starting January 1, 2016)
Standards by kVA and equipment class: Equipment class 1: kVA | Standards by kVA and equipment class: Equipment class 1: % | Standards by kVA and equipment class: Equipment class 2: kVA | Standards by kVA and equipment class: Equipment class 2: %
10 | 98.70 | 15 | 98.65
15 | 98.82 | 30 | 98.83
25 | 98.95 | 45 | 98.92
37.5 | 99.05 | 75 | 99.03
50 | 99.11 | 112.5 | 99.11
75 | 99.19 | 150 | 99.16
100 | 99.25 | 225 | 99.23
167 | 99.33 | 300 | 99.27
250 | 99.39 | 500 | 99.35
333 | 99.43 | 750 | 99.40
500 | 99.49 | 1000 | 99.43
667 | 99.52 | 1500 | 99.48
833 | 99.55 | 2000 | 99.51
|  | 2500 | 99.53

2. On page 7344, Table V.9 is corrected to read as follows:

Table V.9—Summary Life-Cycle Cost and Payback Period Results for Design Line 6 Representative Unit
| Trial standard level: 1 | Trial standard level: 2 | Trial standard level: 3 | Trial standard level: 4 | Trial standard level: 5 | Trial standard level: 6
Efficiency (%) | 98.00 | 98.60 | 98.80 | 99.17 | 99.17 | 99.44
Transformers with Net Increase in LCC (%) | 0.0 | 71.5 | 17.6 | 36.2 | 36.2 | 93.4
Transformers with Net LCC Savings (%) | 0.0 | 28.5 | 82.4 | 63.8 | 63.8 | 6.6
Transformers with No Impact on LCC (%) | 100.0 | 0.0 | 0.0 | 0.0 | 0.0 | 0.0
Mean LCC Savings ($) | 0 | −125 | 303 | 187 | 187 | −881
Median PBP (Years) | 0.0 | 24.7 | 12.8 | 16.3 | 16.3 | 32.4

3. On page 7346, Table V.20 is corrected to read as follows:

Table V.20—Rebuttable-Presumption Payback Periods (Years) for Low-Voltage Dry-Type Distribution Transformers
Design line | Rated capacity (kVA) | Trial standard level: 1 | Trial standard level: 2 | Trial standard level: 3 | Trial standard level: 4 | Trial standard level: 5 | Trial standard level: 6
6 | 25 | 0.0 | 15.9 | 13.5 | 15.0 | 15.0 | 26.5
7 | 75 | 4.2 | 4.2 | 4.4 | 6.4 | 6.4 | 14.9
8 | 300 | 6.8 | 6.8 | 10.4 | 9.7 | 20.2 | 20.2

4. On page 7363, Table V.39 is corrected to read as follows:

Table V.39—Proposed Energy Conservation Standards for Liquid-Immersed Distribution Transformers
Standards by kVA and equipment class: Equipment class 1: kVA | Standards by kVA and equipment class: Equipment class 1: % | Standards by kVA and equipment class: Equipment class 2: kVA | Standards by kVA and equipment class: Equipment class 2: %
10 | 98.70 | 15 | 98.65
15 | 98.82 | 30 | 98.83
25 | 98.95 | 45 | 98.92
37.5 | 99.05 | 75 | 99.03
50 | 99.11 | 112.5 | 99.11
75 | 99.19 | 150 | 99.16
100 | 99.25 | 225 | 99.23
167 | 99.33 | 300 | 99.27
250 | 99.39 | 500 | 99.35
333 | 99.43 | 750 | 99.40
500 | 99.49 | 1000 | 99.43
667 | 99.52 | 1500 | 99.48
833 | 99.55 | 2000 | 99.51
|  | 2500 | 99.53

5. On pages 7363 and 7364, Table V.41 is corrected to read as follows:

Table V.41—Summary of Analytical Results for Low-Voltage, Dry-Type Distribution Transformers: Manufacturer and Consumer Impacts
Category | TSL 1 | TSL 2 | TSL 3 | TSL 4 | TSL 5 | TSL 6
Manufacturer Impacts
Industry NPV (2011$ million) | 203 to 236 | 200 to 235 | 193 to 240 | 173 to 250 | 164 to 263 | 136 to 322.
Industry NPV (% change) | (7.7) to 7.7 | (8.9) to 6.8 | (12.2) to 9.1 | (21.0) to 14.1 | (25.2) to 20.0 | (37.9) to 46.4
Consumer Mean LCC Savings (2010$)
Design line 6 | 0 | −125 | 303 | 187 | 187 | −881.
Design line 7 | 1714 | 1714 | 1793 | 2270 | 2270 | 270.
Design line 8 | 2476 | 2476 | 2625 | 4145 | −2812 | −2812.
Consumer Median PBP (years)
Design line 6 | 0.0 | 24.7 | 12.8 | 16.3 | 16.3 | 32.4.
Design line 7 | 4.5 | 4.5 | 4.7 | 6.9 | 6.9 | 18.1.
Design line 8 | 8.4 | 8.4 | 12.3 | 11.0 | 24.5 | 24.5.
Distribution of Consumer LCC Impacts
Design line 6
Net Cost (%) | 0.0 | 71.5 | 17.6 | 36.2 | 36.2 | 93.4.
Net Benefit (%) | 0.0 | 28.5 | 82.4 | 63.8 | 63.8 | 6.6.
No Impact (%) | 100.0 | 0.0 | 0.0 | 0.0 | 0.0 | 0.0.
Design line 7
Net Cost (%) | 041*1.8 | 1.8 | 2.0 | 3.7 | 3.7 | 46.4.
Net Benefit (%) | 98.2 | 98.2 | 98.0 | 96.3 | 96.3 | 53.6.
No Impact (%) | 0.0 | 0.0 | 0.0 | 0.0 | 0.0 | 0.0.
Design line 8
Net Cost (%) | 5.2 | 5.2 | 15.3 | 10.5 | 78.5 | 78.5.
Net Benefit (%) | 94.8 | 94.8 | 84.7 | 89.5 | 21.5 | 21.5.
No Impact (%) | 0.0 | 0.0 | 0.0 | 0.0 | 0.0 | 0.0.

6. The first sentence on page 7365, column 1, paragraph 7 is corrected to read as follows:

“At TSL 3, the average LCC impact ranges from $303 for design line 6 to $2,625 for design line 8. The median PBP ranges from 12.8 years for design line 6 to 4.7 years for design line 7”.

7. On pages 7379 and 7380, § 431.196, the “%” headings in the second row of the tables in paragraphs (a)(1) and (a)(2) are corrected to read as “Efficiency (%)”.

8. On page 7380, § 431.196, interchange the tables in paragraphs (b)(1) and (b)(2) to read as follows:

(b) Liquid-Immersed Distribution Transformers.

(1) The efficiency of a liquid-immersed distribution transformer manufactured on or after January 1, 2010, but before January 1, 2016, shall be no less than that required for their kVA rating in the table below. Liquid-immersed distribution transformers with kVA ratings not appearing in the table shall have their minimum efficiency level determined by linear interpolation of the kVA and efficiency values immediately above and below that kVA rating.

Single-phase: kVA | Single-phase: Efficiency (%) | Three-phase: kVA | Three-phase: Efficiency (%)
10 | 98.62 | 15 | 98.36
15 | 98.76 | 30 | 98.62
25 | 98.91 | 45 | 98.76
37.5 | 99.01 | 75 | 98.91
50 | 99.08 | 112.5 | 99.01
75 | 99.17 | 150 | 99.08
100 | 99.23 | 225 | 99.17
167 | 99.25 | 300 | 99.23
250 | 99.32 | 500 | 99.25
333 | 99.36 | 750 | 99.32
500 | 99.42 | 1000 | 99.36
667 | 99.46 | 1500 | 99.42
833 | 99.49 | 2000 | 99.46
|  | 2500 | 99.49
Note: All efficiency values are at 50 percent of nameplate-rated load, determined according to the DOE Test-Procedure. 10 CFR Part 431, Subpart K, Appendix A.

(2) The efficiency of a liquid-immersed distribution transformer manufactured on or after January 1, 2016, shall be no less than that required for their kVA rating in the table below. Liquid-immersed distribution transformers with kVA ratings not appearing in the table shall have their minimum efficiency level determined by linear interpolation of the kVA and efficiency values immediately above and below that kVA rating.

Single-phase: kVA | Single-phase: Efficiency (%) | Three-phase: kVA | Three-phase: Efficiency (%)
10 | 98.70 | 15 | 98.65
15 | 98.82 | 30 | 98.83
25 | 98.95 | 45 | 98.92
37.5 | 99.05 | 75 | 99.03
50 | 99.11 | 112.5 | 99.11
75 | 99.19 | 150 | 99.16
100 | 99.25 | 225 | 99.23
167 | 99.33 | 300 | 99.27
250 | 99.39 | 500 | 99.35
333 | 99.43 | 750 | 99.40
500 | 99.49 | 1000 | 99.43
667 | 99.52 | 1500 | 99.48
833 | 99.55 | 2000 | 99.51
|  | 2500 | 99.53
Note: All efficiency values are at 50 percent of nameplate-rated load, determined according to the DOE Test-Procedure. 10 CFR Part 431, Subpart K, Appendix A.

9. On pages 7380 and 7381, § 431.196, interchange the tables in paragraphs (c)(1) and (c)(2) to read as follows:

(c) Medium-Voltage Dry-Type Distribution Transformers.

(1) The efficiency of a medium- voltage dry-type distribution transformer manufactured on or after January 1, 2010, but before January 1, 2016, shall be no less than that required for their kVA and BIL rating in the table below. Medium-voltage dry-type distribution transformers with kVA ratings not appearing in the table shall have their minimum efficiency level determined by linear interpolation of the kVA and efficiency values immediately above and below that kVA rating.

Single-phase: BIL*: kVA | Single-phase: 20-45 kV: Efficiency (%) | Single-phase: 46-95 kV: Efficiency (%) | Single-phase: ≥96 kV: Efficiency (%) | Three-phase: BIL*: kVA | Three-phase: 20-45 kV: Efficiency (%) | Three-phase: 46-95 kV: Efficiency (%) | Three-phase: ≥96 kV: Efficiency (%)
15 | 98.10 | 97.86 |  | 15 | 97.50 | 97.18 |
25 | 98.33 | 98.12 |  | 30 | 97.90 | 97.63 |
37.5 | 98.49 | 98.30 |  | 45 | 98.10 | 97.86 |
50 | 98.60 | 98.42 |  | 75 | 98.33 | 98.12 |
75 | 98.73 | 98.57 | 98.53 | 112.5 | 98.49 | 98.30 |
100 | 98.82 | 98.67 | 98.63 | 150 | 98.60 | 98.42 |
167 | 98.96 | 98.83 | 98.80 | 225 | 98.73 | 98.57 | 98.53
250 | 99.07 | 98.95 | 98.91 | 300 | 98.82 | 98.67 | 98.63
333 | 99.14 | 99.03 | 98.99 | 500 | 98.96 | 98.83 | 98.80
500 | 99.22 | 99.12 | 99.09 | 750 | 99.07 | 98.95 | 98.91
667 | 99.27 | 99.18 | 99.15 | 1000 | 99.14 | 99.03 | 98.99
833 | 99.31 | 99.23 | 99.20 | 1500 | 99.22 | 99.12 | 99.09
|  |  |  | 2000 | 99.27 | 99.18 | 99.15
|  |  |  | 2500 | 99.31 | 99.23 | 99.20
*BIL means basic impulse insulation level.
Note: All efficiency values are at 50 percent of nameplate rated load, determined according to the DOE Test-Procedure. 10 CFR Part 431, Subpart K, Appendix A.

(2) The efficiency of a medium- voltage dry-type distribution transformer manufactured on or after January 1, 2016, shall be no less than that required for their kVA and BIL rating in the table below. Medium-voltage dry-type distribution transformers with kVA ratings not appearing in the table shall have their minimum efficiency level determined by linear interpolation of the kVA and efficiency values immediately above and below that kVA rating.

Single-phase: BIL*: kVA | Single-phase: 20-45 kV: Efficiency (%) | Single-phase: 46-95 kV: Efficiency (%) | Single-phase: ≥96 kV: Efficiency (%) | Three-phase: BIL*: kVA | Three-phase: 20-45 kV: Efficiency (%) | Three-phase: 46-95 kV: Efficiency (%) | Three-phase: ≥96 kV: Efficiency (%)
15 | 98.10 | 97.86 |  | 15 | 97.50 | 97.18 |
25 | 98.33 | 98.12 |  | 30 | 97.90 | 97.63 |
37.5 | 98.49 | 98.30 |  | 45 | 98.10 | 97.86 |
50 | 98.60 | 98.42 |  | 75 | 98.33 | 98.13 |
75 | 98.73 | 98.57 | 98.53 | 112.5 | 98.52 | 98.36 |
100 | 98.82 | 98.67 | 98.63 | 150 | 98.65 | 98.51 |
167 | 98.96 | 98.83 | 98.80 | 225 | 98.82 | 98.69 | 98.57
250 | 99.07 | 98.95 | 98.91 | 300 | 98.93 | 98.81 | 98.69
333 | 99.14 | 99.03 | 98.99 | 500 | 99.09 | 98.99 | 98.89
500 | 99.22 | 99.12 | 99.09 | 750 | 99.21 | 99.12 | 99.02
667 | 99.27 | 99.18 | 99.15 | 1000 | 99.28 | 99.20 | 99.11
833 | 99.31 | 99.23 | 99.20 | 1500 | 99.37 | 99.30 | 99.21
|  |  |  | 2000 | 99.43 | 99.36 | 99.28
|  |  |  | 2500 | 99.47 | 99.41 | 99.33
* BIL means basic impulse insulation level.
Note: All efficiency values are at 50 percent of nameplate rated load, determined according to the DOE Test-Procedure. 10 CFR Part 431, Subpart K, Appendix A.

Issued in Washington, DC, on February 15, 2012.
Kathleen B. Hogan,
Deputy Assistant Secretary, Energy Efficiency and Renewable Energy.

[FR Doc. 2012-3987 Filed 2-23-12; 8:45 am]

BILLING CODE 6450-01-P